DEPARTMENT OF AGRICULTURE

Forest Service

Bridger-Teton National Forest—WY—Kemmerer and Greys River Ranger Districts; Lincoln County, WY; Salt Pass Grazing Allotments Environmental Impact Statement

AGENCY: Forest Service, USDA.

ACTION: Notice of intent to prepare an environmental impact statement; correction.

SUMMARY: The Forest Service published a document in the Federal Register on November 15, 2004, requesting comments concerning the scope of the analysis be received by December 17, 2005. That document contained an incorrect date for submission of comments.

FOR FURTHER INFORMATION CONTACT: Russ Bacon, Kemmerer District Ranger, Kemmerer Ranger District, P.O. Box 31, Kemmerer, Wyoming 83101 or phone (307) 877-4415.

Correction

In the Federal Register of November 15, 2004, in FR Doc. 04-25249, on page 65578, the date for submission of comments is incorrect. The submission of comments concerning the scope of the analysis must be received by December 31, 2004 is the correct date.

Dated: November 16, 2004.
Fred Fouse,
Acting District Ranger.

[FR Doc. 04-26374 Filed 11-29-04; 8:45 am]

BILLING CODE 3410-11-M